DEPARTMENT OF ENERGY

Federal Energy Regulatory Commission

Combined Notice of Filings #1

Take notice that the Commission received the following electric rate filings:

Docket Numbers: ER15-1882-004.

Applicants: PSEG Energy Resources & Trade LLC.

Description: Compliance filing: Informational filing of PSEG Energy Resources & Trade to be effective 12/31/9998.

Filed Date: 7/8/19.

Accession Number: 20190708-5097.

Comments Due: 5 p.m. ET 7/29/19.

Docket Numbers: ER19-1672-001.

Applicants: Southwest Power Pool, Inc.

Description: Tariff Amendment: Amended Filing in ER19-1672—1148R25 American Electric Power NITSA and NOA to be effective 4/1/2019.

Filed Date: 7/8/19.

Accession Number: 20190708-5098.

Comments Due: 5 p.m. ET 7/29/19.

Docket Numbers: ER19-1927-001.

Applicants: Portland General Electric Company.

Description: Compliance filing: Order 845 Amended Surplus Interconnection Language to be effective 5/22/2019.

Filed Date: 7/8/19.

Accession Number: 20190708-5006.

Comments Due: 5 p.m. ET 7/29/19.

Docket Numbers: ER19-2360-000.

Applicants: Montague Wind Power Facility, LLC.

Description: Baseline eTariff Filing: Application for Market-Based Rate Authorization, Request for Related Waivers to be effective 7/26/2019.

Filed Date: 7/8/19.

Accession Number: 20190708-5004.

Comments Due: 5 p.m. ET 7/29/19.

Docket Numbers: ER19-2361-000.

Applicants: Otter Creek Wind Farm LLC.

Description: Baseline eTariff Filing: Application for Market-Based Rate Authorization, Request for Related Waivers to be effective 9/7/2019.

Filed Date: 7/8/19.

Accession Number: 20190708-5008.

Comments Due: 5 p.m. ET 7/29/19.

Docket Numbers: ER19-2362-000.

Applicants: Southwest Power Pool, Inc.

Description: Reliability Penalty Cost Recovery, et al. of Southwest Power Pool, Inc.

Filed Date: 7/3/19.

Accession Number: 20190703-5219.

Comments Due: 5 p.m. ET 7/24/19.

Docket Numbers: ER19-2363-000.

Applicants: Pennsylvania Electric Company, Mid-Atlantic Interstate Transmission, LLC, PJM Interconnection, L.L.C.

Description: § 205(d) Rate Filing: Penelec submits Construction Agreement, Service Agreement No. 5279 to be effective 9/6/2019.

Filed Date: 7/8/19.

Accession Number: 20190708-5075.

Comments Due: 5 p.m. ET 7/29/19.

Docket Numbers: ER19-2364-000.

Applicants: Midcontinent Independent System Operator, Inc., ALLETE, Inc.

Description: § 205(d) Rate Filing: 2019-07-08_SA 3329 MP-GRPU T-L (Tioga) to be effective 6/12/2019.

Filed Date: 7/8/19.

Accession Number: 20190708-5077.

Comments Due: 5 p.m. ET 7/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2019.
Nathaniel J. Davis, Sr.,
Deputy Secretary.

[FR Doc. 2019-14828 Filed 7-11-19; 8:45 am]

BILLING CODE 6717-01-P